DEPARTMENT OF JUSTICE

Notice of Lodging of Consent Decree Under the Resource Conservation and Recovery Act and Under the Clean Air Act

In accordance with Departmental policy, 28 CFR 50.7, notice is hereby given that on January 8, 2000, a proposed consent decree in United States v. Rhode Island Technical Plating, Inc., Civil Action No. 01-007L was lodged with the United States District Court for the District of Rhode Island.

In this action the United States sought injunctive relief and assessment of civil penalties in connection with the electroplating and metal finishing facility owned by Rhode Island Technical Plating (“RITP”), in Cranston, Rhode Island. The Complaint alleges that the defendant is liable under sections 3008(a) and 3008(g) of the Resource Conservation and Recovery Act (“RCRA”) and under Section 113(b) of the Clean Air Act. Pursuant to the decree, defendant will perform a RCRA facility investigation and take appropriate steps to bring its facility into compliance with applicable law. Defendant will also pay to the United States, a civil penalty of $20,000. This settlement is based, in part, on the Defendant's limited financial ability to pay.

The Department of Justice will receive for a period of thirty (30) days from the date of this publication comments relating to the proposed decree. Comments should be addressed to the Assistant Attorney General, Environment and Natural Resources Division, P.O. Box 7611, U.S. Department of Justice, Washington, DC 20044-7611, and should refer to United States versus Rhode Island Technical Plating, Inc., Civil Action No. 01-007L, D.J. Ref. 90-7-1-06063.

The proposed consent decree may be examined at the Office of the United States Attorney, District of Rhode Island, 150 South Main Street, Providence, Rhode Island, 02906, and at U.S. EPA New England (Region 1), One Congress Street, Suite 1100, Boston, Massachusetts, 02114-2023. A copy of the proposed consent decree may also be obtained by mail from the Consent Decree Library, P.O. Box 7611, U.S. Department of Justice, Washington, DC 20044-7611. In requesting a copy, please enclose a check in the amount of $12.00 (25 cents per page reproduction cost) payable to the Consent Decree Library.

Bruce S. Gelber,
Chief, Environmental Enforcement Section, Environment and Natural Resources Division.

[FR Doc. 01-1731 Filed 1-19-01; 8:45 am]

BILLING CODE 4410-15-M